DEPARTMENT OF HOUSING AND URBAN DEVELOPMENT

[Docket No. FR-5835-N-14]

60-Day Notice of Proposed Information Collection; Comprehensive Transactional Forms Supporting FHA's Section 242 Mortgage Insurance Program for Hospitals

AGENCY: Office of the Assistant Secretary for Housing, HUD.

ACTION: Notice.

SUMMARY: Consistent with the Paperwork Reduction Act of 1995 (PRA), HUD is publishing for public comment a comprehensive set of transactional and closing documents used in connection with transactions involving hospitals that are insured pursuant to Section 242 of the National Housing Act (Section 242). The proposed information collection will replace the existing collection 2502-0602 and will be submitted to the Office of Management and Budget (OMB) for review, as required by the PRA. The Department is soliciting public comments on the subject proposal for 60 days. The documents that are the subject of this notice can be viewed on HUD's Web site: http://portal.hud.gov/hudportal/HUD?src=/federal_housing_administration/healthcare_facilities/section_242/additional_resources/242_redlines_0815.

DATES: Comments Due Date: December 8, 2015.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339). Facsimile (fax) comments are not acceptable.

FOR FURTHER INFORMATION CONTACT: Program Contact: Paul Giaudrone, Underwriting Director, Office of Hospital Facilities, Department of Housing and Urban Development, 451 7th Street SW., Washington, DC 20410, telephone (202) 708-0599 (this is not a toll free number) for copies of the proposed forms and other available information.

SUPPLEMENTARY INFORMATION: The Department is submitting the proposed information collection to OMB for review, as required by the Paperwork Reduction Act of 1995 (44 U.S.C. Chapter 35, as amended).

The revised hospital documents can be viewed at: http://portal.hud.gov/hudportal/HUD?src=/federal_housing_administration/healthcare_facilities/section_242/additional_resources/242_redlines_0815.

Where documents are based on existing Section 232 residential care facility or Multifamily program documents, the hospital documents, in addition to being presented in an unmarked format, are presented in redline/strikeout format so that the reviewer can see the changes proposed to make the documents applicable to Section 242 transactions. Where proposed documents are based on existing OHF forms, the proposed versions are also presented in both redline/strikeout and unmarked formats. Summaries of the major changes to some of the principal documents follow. Where capitalized terms are used, such terms refer to the titles of documents or defined terms in the documents.

Summary of Changes to Documents
Information collection | Form name | Summary of changes
HUD-91070-OHF | Consolidated Certifications Borrower | New form, no policy change. This is a new form that consolidates many certifications into one form (ex. prior versions of the HUD-41901, HUD-92010, Byrd Amendment certifications, etc. are now consolidated).
HUD-91071-OHF | Escrow Agreement for Off-site Facilities | Nomenclature changes only. Minor updates to Multifamily 91071-M form to make this an OHF form.
HUD-91073-OHF | HUD Survey Instructions and Surveyor's Report | Nomenclature changes only. Minor updates to previous 91073-OHF version to remove multifamily terminology and replace with hospital terminology.
HUD-91111-OHF | Survey Instructions and Borrower's Certification | New form based on 232 version. Reflects nomenclature changes for 242 hospitals, and removes exceptions that do not apply to hospitals.
HUD-91725-OHF | Opinion by Counsel to the Borrower | New form based on 232 version. Removes references to Operators and Public Entity Agreement which do not apply to 242, and includes survey requirements per 242 policy. Updates nomenclature and terminology throughout to be representative for 242 program and hospitals, instead of residential care facilities. Includes provisions if AR financing is involved.
HUD-92013-OHF | Application for Hospital Project Mortgage Insurance | Minor changes only. Minor updates and corrects burden hours from previous version.
HUD-92023-OHF | Request for Final Endorsement of Credit Instrument—Hospitals/Section 242 | New form based on 232 version. Nomenclature changes only to reflect 242 hospitals, and includes Construction Managers in addition to General Contractors.
HUD-92070-OHF | Lease Addendum | New form based on 232 version. Nomenclature changes and updates language from “Mortgagee/Mortgagor” to “Lender/Borrower.” Instructions added.
HUD-92080-OHF | Change of Mortgage Record | New form based on MF version. Minor nomenclature changes and language updates language from “Mortgagee/Mortgagor” to “Lender/Borrower.”
HUD-92117-OHF | Borrower's Certification—Full or Partial Completion of Non-Critical Repairs | New form based on 232 version. Changed form name and terms within from “Non-Critical Repairs” to “Project” to cover 242 project work not just limited to repairs.
HUD-92205-OHF | Borrower's Pre-Closing Certificate of Actual Cost (Section 242/223f) | New form based on 232 version. Changed “repairs” to “limited rehabilitation” to cover 242/223f projects. Added “Pre-Closing” to the name to clarify the difference of this form from the 92330 certificate of actual cost.
HUD-92223-OHF | Surplus Cash Note | New form based on 232 version. Minor nomenclature changes to reflect 242 hospitals.
HUD-92322-OHF | Intercreditor Agreement | New form based on 232 version. Changed residential care facility terms to reflect hospitals (“owner/operator” to “hospital”). Removed language and portions relevant to Owners/Operators and master tenancy/leases that do not apply to 242. Included provisions to cover additional facilities under one loan, as many 242 loans cover multiple buildings/facilities. Changed terminology from “impositions” to “mortgage costs”.
HUD-92330A-OHF | Contractor's Certificate of Actual Cost—Hospitals/Section 242 | Corrects existing form. Corrects previous 92330A-OHF form to reference 242 forms, handbook, and include construction managers.
HUD-92330-OHF | Borrower's Certificate of Actual Cost—Hospitals/Section 242 | Corrects existing form. Corrects previous 92330-OHF form to reference 242 forms, handbook, and citations. Changes terminology from “Mortgagee/Mortgagor” to “Lender/Borrower.”
HUD-92403A-OHF | Borrower's And Architect's Certificate of Payment (01/1995) | Corrects existing form. Corrects previous 92403-OHF form to reference correct 242 citations. Changes terminology from “Mortgagee/Mortgagor” to “Lender/Borrower.”
HUD-92403-OHF | Application for Insurance of Advance of Mortgage Proceeds | Corrects existing form. Corrects previous 92403-OHF form to reference correct 242 forms. Changes terminology from “Mortgagee/Mortgagor” to “Lender/Borrower.”
HUD-92415-OHF | Request For Permission To Commence Construction Prior To Initial Endorsement For Mortgage Insurance—Hospitals/Section 242 | Corrects existing form. Corrects previous 92403-OHF form to reference correct 242 forms. Changes terminology from “Mortgagee/Mortgagor” to “Lender/Borrower.”
HUD-92422-OHF | Financial And Statistical Data For HUD Reporting | Corrects existing form. Includes updated financial data and statistical fields requested for reporting.
HUD-92434-OHF | Lender's Certificate | New form based on 232 version. Changed terminology to reflect hospitals, removed Administrative Fees provisions, added disclosure of Ginnie Mae extension fee provision and deleted provision noting that borrower has collected amounts to cover extension fees, changed the time for submission of application for insurance of advances; various updates to conform to handbook provisions; added a provision on escrows and deleted unitary loan provision.
HUD-92441-OHF | Building Loan Agreement | New form based on 232 version. Changed residential care facility terms to reflect hospitals and reference 242's related forms. Includes provisions for expenses involved in 242 transactions, off-site improvements, and 242 construction contracts.
HUD-92441A-OHF | Building Loan Agreement (223f version) | New form based on 92441-OHF. Modified agreement for 223f to tailor language for insurance upon completion and limited rehabilitation.
HUD-92442-OHF | Construction Contract | New form based on 232 version. Nomenclature changes to reflect 242 hospitals. Changed construction contract language to be consistent with 242 policies and procedures involving time of construction activities/requests, requisition and payment procedures, and assurance of completion. Removed identities of interest language that applies to 232 projects.
HUD-92448-OHF | Contractor's Requisition Project Mortgages | New form. Replaces existing 92448-OHF which is not the correct form that we use.
HUD-92452A-OHF | Payment Bond | New form based on 232 version. Minor nomenclature changes only.
HUD-92452-OHF | Performance Bond | New form based on 232 version. Minor nomenclature changes only.
HUD-92455-OHF | Request for Endorsement of Credit Instrument & Certificate of Lender, Borrower & General Contractor | New form based on 232 version. Changed terminology to reflect hospitals. Revised language related to escrows to make them specific to hospital transactions and language relating to mortgage reserve funds. Updated content to reflect Section 242 Handbook guidance.
HUD-92456-OHF | Escrow Agreement for Incomplete Construction | New form based on 232 version. Minor nomenclature changes only.
HUD-92464-OHF | Request for Approval of Advance of Escrow Funds—Hospitals/Section 242 | Corrects existing form. Replaces existing 92464-OHF and includes references for 242 construction and limited rehabilitation pursuant to 223(f) loans.
HUD-92466-OHF | Regulatory Agreement—Borrower | New form. This document was based on the Section 232 Regulatory Agreement, but was so substantially revised that a redline was not warranted. All terms were changed from “healthcare facility” to “hospital” and any 232 specific terms and provisions were removed. Provisions from the covenants which are attached to the current form of 242 regulatory agreement were inserted, as well as language consistent with the Security Instrument and current Housing policies. Industry is very familiar with these covenants so new policy concepts are not being introduced with the insertion of those provisions. Definitions were added as an exhibit C to the Agreement in order to make the document easier to read without having to page through numerous definitions. Significant terminology now used in the new 242 regulatory agreement is the concept of “Program Obligations” as used in Multifamily and 232; definition of “Revenue” to replace the definition of “Rent”; and the definition of “Waste”. Liabilities consistent with Multifamily and 232 policy were added to the Section 40 Addendum.
HUD-92476-OHF | Escrow Agreement for Deferred Work | New form. Escrow language modified to cover funds for deferred work.
HUD-92476A-OHF | Escrow Agreement for Limited Rehabilitation | New form. Escrow language modified to cover 223(f) loans.
HUD-92479-OHF | Off-Site Bond—Dual Obligee | New form based on 232 version. Minor nomenclature changes only.
HUD-9250-OHF | Funds Authorizations | No policy change. Modified 232 version to reflect 242 nomenclature and terminology (ex. “Mortgage Reserve Fund” instead of “Reserve for Replacements Fund” and “Borrower” instead of “Owner/Operator”.
HUD-92554-OHF | Supplementary Conditions of the Contract for Construction (06/2014) | New form based on 232 version. Nomenclature changes and updated regulatory references to appropriate ones related to Section 242.
HUD-92576-OHF | Certificate for Need for Health Facility and Assurance of Enforcement of State Standards | New form based on 232 version. Minor nomenclature changes and removed “skilled nursing facility” and “intermediate care facility” checkboxes.
HUD-92580-OHF | Maximum Insurable Mortgage | Corrects existing form. Corrects previous version that had multifamily language and incorrect references, making it specific to 242 hospital program. Updates language from “Mortgagee/Mortgagor” to “Lender/Borrower”.
HUD-93305-OHF | Agreement and Certification | New form based on 232 version. Nomenclature changes to reflect 242 hospitals and update references of form names. Changed language to include Construction Managers and change “repairs” to “limited rehabilitation” per 242/223(f).
HUD-94000-OHF | Security Instrument/Mortgage/Deed of Trust | New form based on 232 version. Changed all terms from “healthcare facility” to “hospital.” Removed all terms related to operator, master tenant, master leases, and any other 232 specific terms which are not applicable in 242 (example: Reserve for replacements and residual receipts). Also removed references to “residents” and “security deposits” and any other term that wouldn't be applicable to a 242 transaction. Completed removed a section on “single asset borrower” as in 242 the borrower does not have to be a single asset borrower and can own multiple assets and businesses.
HUD-94001-OHF | Healthcare Facility Note | New form based on 232 version. No changes aside from nomenclature and changing terms from “healthcare facility” to “hospital”.
HUD-94128-OHF | Environmental Assessment and Compliance Findings | No change. Just correcting form number from “4128-OHF” to “94128-OHF” and correcting estimated burden hours.

A. Paperwork Reduction Act

Under the PRA, an agency may not conduct or sponsor, and a person is not require to respond to, a collection of information unless the collection displays a valid control number. The public reporting burden for this revised collection of information is estimated to include the time for reviewing the instructions, searching existing data sources, gathering and maintaining the data needed, and completing and reviewing the collection of information. Information on the estimated public reporting burden is provided in the following table:

Information collection | Form name | Number of respondents | Frequency of response | Response per annum | Average burden hour per response | Annual burden hours | Average hourly cost per response | Annual cost
HUD-91070-OHF | Consolidated Certifications Borrower | 15 | 1 | 15 | 1 | 15 | $220 | $3,300
HUD-91071-OHF | Escrow Agreement for Off-site Facilities | 3 | 2 | 6 | 0.5 | 3 | 100 | 300
HUD-91073-OHF | HUD Survey Instructions and Surveyor's Report | 15 | 1 | 15 | 1 | 15 | 75 | 1,125
HUD-91111-OHF | Survey Instructions and Borrower's Certification | 15 | 1 | 15 | 1 | 15 | 75 | 1,125
HUD-91725-OHF | Opinion by Counsel to the Borrower | 15 | 1 | 15 | 2 | 30 | 220 | 6,600
HUD-92013-OHF | Application for Hospital Project Mortgage Insurance | 15 | 1 | 15 | 4664 | 69960 | 75 | 5,247,000
HUD-92023-OHF | Request for Final Endorsement of Credit Instrument—Hospitals/Section 242 | 15 | 1 | 15 | 1.5 | 22.5 | 100 | 2,250
HUD-92070-OHF | Lease Addendum | 10 | 1 | 10 | 0.5 | 5 | 220 | 1,100
HUD-92080-OHF | Change of Mortgage Record | 10 | 1 | 10 | 0.5 | 5 | 75 | 375
HUD-92117-OHF | Borrower's Certification- Full or Partial Completion of Project | 5 | 5 | 25 | 0.5 | 12.5 | 75 | 938
HUD-92205-OHF | Borrower's Pre-Closing Certificate of Actual Cost (Section 242/223f) | 5 | 1 | 5 | 3.5 | 17.5 | 75 | 1,313
HUD-92223-OHF | Surplus Cash Note | 5 | 1 | 5 | 0.5 | 2.5 | 220 | 550
HUD-92322-OHF | Intercreditor Agreement | 8 | 1 | 8 | 3.5 | 28 | 100 | 2,800
HUD-92330A-OHF | Contractor's Certificate of Actual Cost—Hospitals/Section 242 | 15 | 1 | 15 | 2 | 30 | 75 | 2,250
HUD-92330-OHF | Borrower's Certificate of Actual Cost—Hospitals/Section 242 | 15 | 1 | 15 | 1 | 15 | 75 | 1,125
HUD-92403A-OHF | Borrower's And Architect's Certificate of Payment (01/1995) | 15 | 1 | 15 | 0.25 | 3.75 | 75 | 281
HUD-92403-OHF | Application for Insurance of Advance of Mortgage Proceeds | 7 | 12 | 84 | 0.25 | 21 | 75 | 1,575
HUD-92415-OHF | Request For Permission To Commence Construction Prior To Initial Endorsement For Mortgage Insurance—Hospitals/Section 242 | 5 | 1 | 5 | 1 | 5 | 75 | 375
HUD-92422-OHF | Financial And Statistical Data For HUD Reporting | 90 | 6 | 540 | 4 | 2160 | 75 | 162,000
HUD-92434-OHF | Lender's Certificate | 15 | 1 | 15 | 8 | 120 | 100 | 12,000
HUD-92441-OHF | Building Loan Agreement | 10 | 1 | 10 | 4 | 40 | 75 | 3,000
HUD-92441A-OHF | Building Loan Agreement (223f version) | 5 | 1 | 5 | 4 | 20 | 75 | 1,500
HUD-92442-OHF | Construction Contract | 10 | 1 | 10 | 2 | 20 | 75 | 1,500
HUD-92448-OHF | Contractor's Requisition Project Mortgages | 10 | 1 | 10 | 3 | 30 | 75 | 2,250
HUD-92452A-OHF | Payment Bond | 10 | 1 | 10 | 1 | 10 | 75 | 750
HUD-92452-OHF | Performance Bond | 10 | 1 | 10 | 1 | 10 | 75 | 750
HUD-92455-OHF | Request for Endorsement of Credit Instrument & Certificate of Lender, Borrower & General Contractor | 15 | 1 | 15 | 1 | 15 | 220 | 3,300
HUD-92456-OHF | Escrow Agreement for Incomplete Construction | 3 | 2 | 6 | 0.5 | 3 | 75 | 225
HUD-92464-OHF | Request for Approval of Advance of Escrow Funds—Hospitals/Section 242 | 5 | 5 | 25 | 2 | 50 | 75 | 3,750
HUD-92466-OHF | Regulatory Agreement—Borrower | 15 | 1 | 15 | 12 | 180 | 220 | 39,600
HUD-92476-OHF | Escrow Agreement for Deferred Work | 2 | 2 | 4 | 0.5 | 2 | 75 | 150
HUD-92476A-OHF | Escrow Agreement for Limited Rehabilitation | 4 | 2 | 8 | 0.5 | 4 | 75 | 300
HUD-92479-OHF | Off-Site Bond—Dual Obligee | 5 | 2 | 10 | 0.5 | 5 | 220 | 1,100
HUD-9250-OHF | Funds Authorizations | 15 | 1 | 15 | 0.5 | 7.5 | 75 | 563
HUD-92554-OHF | Supplementary Conditions of the Contract for Construction | 15 | 1 | 15 | 1 | 15 | 220 | 3,300
HUD-92576-OHF | Certificate for Need for Health Facility and Assurance of Enforcement of State Standards | 12 | 1 | 12 | 0.5 | 6 | 75 | 450
HUD-92580-OHF | Maximum Insurable Mortgage | 15 | 2 | 30 | 6 | 180 | 75 | 13,500
HUD-93305-OHF | Agreement and Certification | 15 | 1 | 15 | 1.5 | 22.5 | 220 | 4,950
HUD-94000-OHF | Security Instrument/Mortgage/Deed of Trust | 15 | 1 | 15 | 2 | 30 | 220 | 6,600
HUD-94001-OHF | Healthcare Facility Note | 15 | 1 | 15 | 1 | 15 | 220 | 3,300
HUD-94128-OHF | Environmental Assessment and Compliance Findings | 12 | 1 | 12 | 8 | 96 | 75 | 7,200
|  | 516 | 71 | 1,115 | 116 | 73,247 | 116 | 5,546,419

This Notice also lists the following information:

Title of Information Collection: Comprehensive Transactional Forms Supporting FHA's Section 242 Mortgage Insurance Program for Hospitals.

OMB Control Number, if applicable: 2502-0602.

Type of Request: Revision of currently approved collection.

Form Number(s): HUD-91070-OHF, HUD-91071-OHF, HUD-91073-OHF, HUD-91111-OHF, HUD-91725-OHF, HUD-92013-OHF, HUD-92023-OHF, HUD-92070-OHF, HUD-92080-OHF, HUD-92117-OHF, HUD-92205-OHF, HUD-92223-OHF, HUD-92322-OHF, HUD-92330-OHF, HUD-92330A-OHF, HUD-92403-OHF, HUD-92403A-OHF, HUD-92415-OHF, HUD-92422-OHF, HUD-92434-OHF, HUD-92441-OHF, HUD-92441A-OHF, HUD-92442-OHF, HUD-92448-OHF, HUD-92452-OHF, HUD-92452A-OHF, HUD-92455-OHF, HUD-92456-OHF, HUD-92464-OHF, HUD-92466-OHF, HUD-92476-OHF, HUD-92476A-OHF, HUD-92479-OHF, HUD-9250-OHF, HUD-92554-OHF, HUD-92576-OHF, HUD-92580-OHF, HUD-93305-OHF, HUD-94000-OHF, HUD-94001-OHF, HUD-94128-OHF.

Description of the need for the information and proposed use: The included collection comprise the comprehensive documents necessary for the application, review, commitment, administration, technical oversight, audit and initial/final endorsement of Office of Hospital Facilities projects pursuant to FHA Programs 242, 241, 223(f), and 223(a)(7). The collection corrects, revises, updates, and supersedes the previous collection approved in February 2014.

Respondents (i.e. affected public): Borrowers, lenders, contractors, architects, and engineers that participate in the application, procedure, project administration and initial/final endorsement of FHA hospital mortgage insurance projects.

Estimated Number of Respondents: 516.

Estimated Number of Responses: 1,115.

Frequency of Response: 71.

Average Hours per Response: 116.

Total Estimated Burdens: 73,247.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: October 5, 2015.
Janet M. Golrick,
Associate General Deputy Assistant Secretary for Housing-Associate Deputy Federal Housing Commissioner.

[FR Doc. 2015-25823 Filed 10-8-15; 8:45 am]

BILLING CODE 4210-67-P